DEPARTMENT OF TRANSPORTATION

Federal Aviation Administration

[Summary Notice No. PE-2001-53]

Petitions for Exemption; Summary of Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on July 20, 2001.
Donald P. Bryne,
Assistant Chief Counsel for Regulations.

Dispositions of Petitions

Docket No.: FAA-2001-9795.

Petitioner: DB Airfreight, Inc.

Section of 14 CFR Affected: 14 CFR 135.143(c)(2).

Description of Relief Sought/Disposition: To permit DBAI to operate certain aircraft under part 135 without a TSO-C112 (Mode S) transponder installed in the aircraft. Grant, 07/09/2001, Exemption No. 7567.

Docket No.: FAA-2001-9860.

Petitioner: TDL Aero Enterprises.

Section of 14 CFR Affected: 14 CFR 135.143(c)(2).

Description of Relief Sought/Disposition: To permit TDL to operate certain aircraft under part 135 without a TSO-C112 (Mode S) transponder installed in the aircraft. Grant, 07/09/2001, Exemption No. 7568.

Docket No.: FAA-2001-9901.

Petitioner: Inflight Corporation dba Cape Air Charter.

Section of 14 CFR Affected: 14 CFR 135.143 (c)(2).

Description of Relief Sought/Disposition: To permit CAC to operate certain aircraft under part 135 without a TSO-C112 (Mode S) transponder installed in the aircraft. Grant, 07/09/2001, Exemption No. 7565.

Docket No.: FAA-2000-8498.

Petitioner: Sensenich Wood Propeller Company, Inc.

Section of 14 CFR Affected: 14 CFR 45.11(b).

Description of Relief Sought/Disposition: To permit Sensenich to stamp the part marking information on the propeller hub to meet the requirement for fireproof identification on propellers, instead of attaching a metal tag with the required information. Grant, 06/29/2001, Exemption No. 7559.

Docket No.: FAA-2001-7997.

Petitioner: George T. Baker Aviation School.

Section of 14 CFR Affected: 14 CFR 65.17(a), 65.19(b), 65.75.

Description of Relief Sought/Disposition: To allow Baker Aviation School to (1) administer FAA oral and practical tests to its students at times and places identified in its FAA-approved Operations Handbook, (2) approve students for retesting within 30 days after failure without requiring a signed statement certifying that additional instruction has been given in the failed area, (3) conduct oral and practical mechanic tests as an integral part of the education process rather than upon students' successful completion of the mechanic written tests, and (4) administer the AMG written knowledge test to students immediately following the successful completion of the general curriculum, but before meeting the requirements of § 65.77. Grant, 06/29/2001, Exemption No. 7560.

Docket No.: FAA-2001-8945 (previously Docket No. 26608).

Petitioner: Phillips Alaska, Inc. and British Petroleum Exploration, Inc.

Section of 14 CFR Affected: 14 CFR 43.3(a), 43.7(a), 91.407(a)(2)(v), 91.417(a)(2)(v), and 121.379.

Description of Relief Sought/Disposition: To (1) permit PAI and BPX to use the approved maintenance recordkeeping procedures for Alaska Airlines, Inc., for Boeing 737-200 aircraft leased and operated by PAI and BPX, and (2) permit ASA to perform maintenance, preventive maintenance, alterations, inspections, major repairs, and major alterations, and subsequently return such aircraft to service in accordance with Asao's continuous airworthiness maintenance program and maintenance procedures. Grant, 06/13/2001, Exemption No. 5667E.

Docket No.: 29825.

Petitioner: Jamco America, Inc.

Section of 14 CFR Affected: 14 CFR 21.325(b)(3).

Description of Relief Sought/Disposition: To permit Jamco to issue export airworthiness approvals for Class II and Class III products manufactured and located at Jamco Corporation's facilities in Tokyo, Japan. Grant, 06/20/2001, Exemption No. 7549.

Docket No.: FAA-2001-9103.

Petitioner: Empress Brasielira de Aeronautic S.A. (EMBRAER)

Section of 14 CFR Affected: 14 CFR 36.9(e)(1).

Description of Relief Sought/Disposition: To allow EMBRAER the 1-g stall speed currently used for the 14 CFR part 25 airworthiness certification to also be used for the 14 CFR part 36 noise certification for the approach reference and test limitations on the EMBRAER EMB-135KE/KL and -135BJ model airplanes. Grant, 06/29/2001, Exemption No. 7554.

Docket No.: FAA-2001-9029 (previously Docket No. 27601).

Petitioner: Austal Lineas Aereas.

Section of 14 CFR Affected: 14 CFR 145.47(b).

Description of Relief Sought/Disposition: To permit ALA to substitute the calibration standards of the Instituto Nacional de Technología Industrial, Argentina's national standards Organization, for the calibration standards of the U.S. National Institute of Standards and Technology, formerly the National Bureau of Standards, to test its inspection and test equipment. Grant, 06/28/2001, Exemption No. 6651B.

[FR Doc. 01-18544 Filed 7-24-01; 8:45 am]

BILLING CODE 4910-13-M